DEPARTMENT OF THE INTERIOR

Bureau of Land Management

[LLOR936000.L14400000.ET0000.16XL1109AF; HAG 16-0075 ORE-03587]

Notice of Application for Extension of Public Land Order No. 1144, as Modified by PLO 7325, and Opportunity for Public Meeting; Miller Lake Recreational Area, Oregon

AGENCY: Bureau of Land Management, Interior.

ACTION: Notice.

SUMMARY: The United States Forest Service (USFS) has filed an application with the Bureau of Land Management (BLM) requesting that the Secretary of the Interior extend the duration of Public Land Order (PLO) No. 1144, as modified by PLO No. 7325, for an additional 20-year term subject to valid existing rights. PLO No. 1144, as modified by PLO 7325, withdrew 949.43 acres of Forest System Lands in the Fremont-Winema National Forest from location and entry under United States mining laws, but not from leasing under the mineral leasing laws. The purpose of the proposed withdrawal extension is to protect the Miller Lake Recreational Area. PLO No. 1144, as modified by PLO No. 7325 will expire on May 20, 2018, unless extended. This notice also gives the public an opportunity to comment on the application and to request a public meeting.

DATES: Comments and public meeting requests must be received by March 16, 2017.

ADDRESSES: Comments and public meeting requests should be sent to the BLM Oregon/Washington State Director, P.O. Box 2965, Portland, OR 97208-2965.

FOR FURTHER INFORMATION CONTACT: Jacob Childers, BLM Oregon/Washington State Office, 503-808-6225 or Candice Polisky, USFS Pacific Northwest Region, 503-808-2479. Persons who use a telecommunications device for the deaf (TDD) may call the Federal Relay Service at 1-800-877-8339 to contact either of the above individuals. The Service is available 24 hours a day, 7 days a week. You will receive a reply during normal business hours.

SUPPLEMENTARY INFORMATION: The USFS has filed an application requesting that the Secretary of the Interior extend PLO No. 1144, as modified by PLO No. 7325, for an additional 20-year term, subject to valid existing rights. PLO No. 1144 (20 FR 3151 (1955)), as modified by PLO No. 7325 (63 FR 19744 (1998)), withdrew 949.43 acres of National Forest System Lands from location and entry under the United States mining laws, but not from leasing under the mineral leasing laws, to protect the Miller Lake Recreational Area. The withdrawal encompasses Digit Point Campground and Miller Lake Trail. The USFS would not need to acquire water rights to fulfill the purpose of the requested withdrawal extension.

Willamette Meridian

Fremont-Winema National Forest

T. 27 S., R. 6½ E.,

Sec. 11, those portions of Lots 1, 2, NE¼NW¼ lying outside the Mt. Thielsen Wilderness Area boundary, Lots 3 through 7, SE¼SW¼, and all of unsurveyed Miller Lake lying within the section;

PB 37, SW¼, SW¼SE¼ lying outside the Mt. Thielsen Wilderness area boundary, and all of unsurveyed Miller Lake lying within aforementioned parts of PB 37;

Sec. 13, Lots 1 through 7, NW¼SW¼;

PB 38.

The area described contains 949.43 acres in Klamath County.

This legal description is identical in size, shape, and location as the description in PLO No. 7325, as published in the Federal Register (63 FR 19745 (1998)).

Records related to the application may be examined by contacting Jacob Childers, Bureau of Land Management, at the address or phone number listed above.

For a period until March 16, 2017, all persons who wish to submit comments, suggestions, or objections in connection with the proposed withdrawal extension may present their views in writing to the BLM Oregon/Washington State Office State Director at the address indicated above.

Comments, including names and street addresses of respondents, will be available for public review at the address indicated above during regular business hours. Be advised that your entire comment, including your personal identifying information may be made publicly available. While you can ask us to withhold your personal identifying information from public review, we cannot guarantee that we will be able to do so.

Notice is hereby given that an opportunity for a public meeting is afforded in connection with the withdrawal extension application. All interested parties who desire a public meeting for the purpose of being heard on the withdrawal extension application must submit a written request to the BLM State Director at the address indicated above by March 16, 2017. Upon determination by the authorized officer that a public meeting will be held, a notice of the time and place will be published in the Federal Register and a local newspaper at least 30 days before the scheduled date of the meeting.

This extension will be processed in accordance with 43 CFR 2310.4.

Steve Storo,
Acting Chief, Branch of Land, Mineral, and Energy Resources.

[FR Doc. 2016-30317 Filed 12-15-16; 8:45 am]

BILLING CODE 3411-15-P